INTERNATIONAL TRADE COMMISSION

[Investigation No. 337-TA-1291]

Certain Replacement Automotive Lamps; Notice of Institution of Investigation

AGENCY: U.S. International Trade Commission.

ACTION: Notice.

SUMMARY: Notice is hereby given that a complaint was filed with the U.S. International Trade Commission on December 15, 2021, under section 337 of the Tariff Act of 1930, as amended, on behalf of Kia Corporation of Korea and Kia America, Inc. of Irvine, California. A supplement to the Complaint was filed on January 6, 2022. The complaint alleges violations of section 337 based upon the importation into the United States, the sale for importation, and the sale within the United States after importation of certain replacement automotive lamps by reason of infringement of U.S. Design Patent No. D592,773 (“the '773 patent”); U.S. Design Patent No. D635,701 (“the '701 patent”); U.S. Design Patent No. D636,506 (“the '506 patent”); U.S. Design Patent No. D650,931 (“the '931 patent”); U.S. Design Patent No. D695,933 (“the '933 patent”); U.S. Design Patent No. D705,963 (“the '963 patent”); U.S. Design Patent No. D709,218 (“the '218 patent”); U.S. Design Patent No. D714,975 (“the '975 patent”); U.S. Design Patent No. D714,976 (“the '976 patent”); U.S. Design Patent No. D720,871 (“the '871 patent”); U.S. Design Patent No. D749,757 (“the '757 patent”); U.S. Design Patent No. D749,762 (“the '762 patent”); U.S. Design Patent No. D749,764 (“the '764 patent”); U.S. Design Patent No. D774,222 (“the '222 patent”); U.S. Design Patent No. D774,223 (“the '223 patent”); U.S. Design Patent No. D776,311 (“the '311 patent”); U.S. Design Patent No. D781,471 (“the '471 patent”); U.S. Design Patent No. D785,833 (“the '833 patent”); U.S. Design Patent No. D785,836 (“the '836 patent”); and U.S. Design Patent No. D792,989 (“the '989 patent”). The complaint further alleges that an industry in the United States exists as required by the applicable Federal Statute.

The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Jessica Mullan, Office of the Secretary, Docket Services Division, U.S. International Trade Commission, telephone (202) 205-1802.

SUPPLEMENTARY INFORMATION: Authority: The authority for institution of this investigation is contained in section 337 of the Tariff Act of 1930, as amended, 19 U.S.C. 1337, and in section 210.10 of the Commission's Rules of Practice and Procedure, 19 CFR 210.10 (2021).

Scope Of Investigation: Having considered the complaint, the U.S. International Trade Commission, on January 18, 2022, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of the claim of the '773 patent; the claim of the '701 patent; the claim of the '506 patent; the claim of the '931 patent; the claim of the '933 patent; the claim of the '963 patent; the claim of the '218 patent; the claim of the '975 patent; the claim of the '976 patent; the claim of the '871 patent; the claim of the '757 patent; the claim of the '762 patent; the claim of the'764 patent; the claim of the '222 patent; the claim of the '223 patent; the claim of the '311 patent; the claim of the '471 patent; the claim of the '833 patent; the claim of the '836 patent; and the claim of the '989 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “replacement automotive headlamps and taillamps for certain Kia-branded automobiles”;

(3) For the purpose of the investigation so instituted, the following are hereby named as parties upon which this notice of investigation shall be served:

(a) The complainants are:

Kia Corporation, 12, Heolleung-ro, Seocho-gu, Seoul 06797

Republic of Korea, Kia America, Inc., 111 Peters Canyon Rd., Irvine, CA 92606

(b) The respondents are the following entities alleged to be in violation of section 337, and are the parties upon which the complaint is to be served:

TYC Brother Industrial Co., Ltd., No. 72-2, Shin-Leh Road, An-Ping Industrial District, Tainan, Taiwan 70248

Genera Corporation (dba. TYC Genera), 2800 Saturn Street, Brea, CA 92821

LKQ Corporation, 500 West Madison Street, Suite 2800, Chicago, IL 60661

Keystone Automotive Industries, Inc., 44 Tunkhannock Avenue, Exeter, PA 18643

(4) For the investigation so instituted, the Chief Administrative Law Judge, U.S. International Trade Commission, shall designate the presiding Administrative Law Judge.

The Office of Unfair Import Investigations will not participate as a party in this investigation.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: January 18, 2022.
Lisa Barton,
Secretary to the Commission.

[FR Doc. 2022-01235 Filed 1-21-22; 8:45 am]

BILLING CODE 7020-02-P